SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before August 18, 2025.

ADDRESSES: Send all comments to Desirée Illidge, Program Analyst, Disaster Loan Division, Office of Financial Assistance, Small Business Administration, 409 3rd Street SW, Washington, DC 20416.

FOR FURTHER INFORMATION CONTACT: Desirée Illidge, Program Analyst, Disaster Loan Division, Office of Financial Assistance, (202) 205-6734, desiree.illidge@sba.gov or Shauniece Carter, Agency Clearance Officer, (202) 205-6536, shauniece.carter@sba.gov.

SUPPLEMENTARY INFORMATION: Prior to Small Business Administration (SBA) approval of subsequent loan disbursement, disaster loan borrowers are required to submit information to demonstrate that they used loan proceeds for authorized purposes only and to make certain certifications regarding current financial condition and previously reported compensation paid in connection with the loan.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0110.

Title: Borrower's Progress Certification.

Description of Respondents: Disaster loan Borrowers.

Form Number: SBA Form 1366.

Total Estimated Annual Responses: 25,682.

Total Estimated Annual Hour Burden: 12,841.

Shauniece Carter,
Records Management Specialist.

[FR Doc. 2025-11132 Filed 6-16-25; 8:45 am]

BILLING CODE 8026-03-P